DEPARTMENT OF AGRICULTURE

Agricultural Marketing Service

[Docket No. FV02-502-N]

Notice of Request for Extension of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for a currently approved information collection for Fruit and Vegetable Market News.

DATES: Comments received by January 7, 2003 will be considered.

ADDITIONAL INFORMATION OR COMMENTS: Contact Terry C. Long, Chief; Fruit and Vegetable Market News Branch, Fruit and Vegetable Programs, AMS-USDA, 1400 Independence Avenue, SW, Stop-0238, Washington, DC 20250-0238; Telephone: (202) 720-2175, Fax: (202) 720-0547. All comments will be available for public inspection at this address during the hours of 8 a.m. to 4 p.m. Monday through Friday.

SUPPLEMENTARY INFORMATION: Title: Fruit and Vegetable Market News.

OMB Number: 0581-0006.

Expiration Date of Approval: April 30, 2003.

Type of Request: Extension of a currently approved information collection.

Abstract: Collection and dissemination of information for fruit, vegetable and ornamental production and to facilitate trading by providing a price base used by producers, wholesalers, and retailers to market product.

The Agricultural Marketing Act of 1946 (7 U.S.C. 1621-et seq.), section 203(g) directs and authorizes the collection and dissemination of marketing information including adequate outlook information, on a market area basis, for the purpose of anticipating and meeting consumer requirements, aiding in the maintenance of farm income and to bring about a balance between production and utilization.

The fruit and vegetable industry provides information on a voluntary basis, and is gathered through confidential telephone and face-to-face interviews by market reporters. Reporters request supplies, demand, and prices of over 400 fresh fruit, vegetable, nut ornamental, and other specialty crops.

The fruit and vegetable market news reports are used by academia, but are primarily used by the fruit, vegetable and ornamental trade, which includes packers, processors, brokers, retailers, and producers. The fruit and vegetable industry requested that the Department of Agriculture issue price and supply market reports for commodities of regional, national and international significance in order to assist them in making immediate production and marketing decisions and as a guide to the amount of product in the supply channel.

Many government agencies use the reports to make their market outlook projections. Data from these reports is included in the information forwarded to the Secretary's office and staff, as needed, to keep them appraised of the current market conditions and movement of fruit, vegetable, and ornamental commodities in the United States. Economists at most major agricultural colleges and universities use the reports to make both short and long term market projections. The data is used extensively by consulting firms and private economists to aid them in determining available supplies and current pricing.

The information is collected, compiled, and disseminated by an impartial third party, in a manner which protects the confidentiality of the reporter. Further, since the Government is a purchaser of fruits and vegetables, a system to monitor the collection and reporting of data is needed.

Estimate of Burden: Public reporting burden for this collection of information is estimated to average .033 hours per response.

Respondents: Fruit, vegetable, and ornamental industry, or other for-profit businesses, individuals or households, farms.

Estimated Number of Respondents: 18,347.

Estimated Number of Responses per Respondent: 200.

Estimated Total Annual Burden on Respondents: 120,964.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including through the use of appropriate automated, electronic, mechanical, or other technological collection techniques or other forms of information technology. Comments may be sent to: Terry C. Long, Chief, Fruit and Vegetable Market News Branch, Fruit and Vegetable Programs, AMS-USDA, 1400 Independence Avenue, SW, Stop-0238, Washington, DC 20250-0238.

All responses to this notice will be summarized and included in the request for OMB approval. All comments will also become a matter of public record.

Dated: November 4, 2002.
Kenneth C. Clayton,
Acting Administrator, Agricultural Marketing Service.

[FR Doc. 02-28425 Filed 11-7-02; 8:45 am]

BILLING CODE 3410-02-P